DEPARTMENT OF AGRICULTURE

Forest Service

Kootenai National Forest; Montana; Forest-Wide Young Growth Project—Withdrawal of Notice of Intent To Prepare an Environmental Impact Statement

AGENCY: Forest Service, USDA.

ACTION: Withdrawal of notice of intent to prepare an environmental impact statement.

SUMMARY: The Kootenai National Forest is withdrawing its Notice of Intent (NOI) to prepare an Environmental Impact Statement (EIS) for the Forest-wide Young Growth Project. The original NOI was published in the Federal Register on July 21, 2015 (80 FR 43056) and the Notice of Availability (NOA) for the Draft Environmental Impact Statement (DEIS) was published in the Federal Register on August 25, 2017 (82 FR 40577). The Kootenai National Forest (KNF) decision to withdraw the Forest-wide Young Growth DEIS is based on several factors including: Recent wildfires, post-fire salvage planning areas that already incorporate young growth stands, economic feasibility of treating young growth stands, and new authorities provided in the 2018 Farm Bill. Upon further evaluation, the Kootenai National Forest has decided to withdraw the EIS.

FOR FURTHER INFORMATION CONTACT: Questions concerning this notice should be directed to Craig Kendall at craig.kendall@usda.gov or 406-758-6485. Individuals who use telecommunication devices for the deaf (TDD) may call the Federal Information Relay Service (FIRS) at 1-800-877-8339 between 8 a.m. and 8 p.m., Eastern Time, Monday through Friday.

Dated: June 6, 2019.
Frank R. Beum,
Acting Associate Deputy Chief, National Forest System.

[FR Doc. 2019-13999 Filed 6-28-19; 8:45 am]

BILLING CODE 3411-15-P